DEPARTMENT OF HOUSING AND URBAN DEVELOPMENT

[Docket No. FR-4739-N-44]

Notice of Proposed Information Collection: Comment Request; Computation of Surplus Cash Distributions and Residual Receipts and Funds Authorizations

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 30, 2002.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410

FOR FURTHER INFORMATION CONTACT: Beverly J. Miller, Director, Office of Asset Management, Department of Housing and Urban Development, 451 7th Street, SW., Washington, DC 20410, telephone number (202) 708-3730 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Computation of Surplus Cash Distributions and Residual Receipts and Funds Authorizations.

OMB Control Number, if applicable: HUD-52537 & HUD-92466.

Description of the need for the information and proposed use: Pursuant to the Regulatory Agreement for Multifamily Housing insured mortgages, under Sections 207, 220, 221(d)(4), 231, 232, and 236, owners are required to adhere to certain guidelines regarding Surplus Cash and to establish a Residual Receipt Account. These receipts are completed and submitted to HUD by owners of insured multifamily projects. The information collected is used by HUD personnel, owners, and non-profit entities for the disbursement of funds.

Agency form numbers, if applicable: None.

Estimation of the total numbers of hours needed to prepare the information collection including number of respondents, frequency of response, and hours of response: The number of respondents is 20,000 generating 20,000 annual responses; the frequency of response is annually; the estimated time to prepare the information collection is approximately 2 hours; and the estimated total number of annual burden hours is 40,000.

Status of the proposed information collection: New Collection.

Authority: The Paperwork Reduction Act of 1995, 44 U.S.C., Chapter 35, as amended.

Dated: October 21, 2002.
John C. Weicher,
Assistant Secretary for Housing—Federal Housing Commissioner.

[FR Doc. 02-27417 Filed 10-28-02; 8:45 am]

BILLING CODE 4210-27-M